DEPARTMENT OF LABOR

Occupational Safety and Health Administration

[Docket No. NRTL2-97]

Detroit Testing Laboratory, Inc. (DTL), Expiration of Recognition

AGENCY: Occupational Safety and Health Administration (OSHA), Labor.

ACTION: Notice.

SUMMARY: This notice announces that Detroit Testing Laboratory, Inc., recognition as a Nationally Recognized Testing Laboratory under 29 CFR 1910.7, will expire on April 28, 2003.

FOR FURTHER INFORMATION CONTACT: Sherrey Nicolas, Office of Technical Programs and Coordination Activities, NRTL Program, Room N3653, Occupational Safety and Health Administration, U.S. Department of Labor, 200 Constitution Avenue, NW., Washington, DC 20210, or phone (202) 693-2110.

SUPPLEMENTARY INFORMATION:

Notice of Application

The Occupational Safety and Health Administration (OSHA) hereby gives notice that Detroit Testing Laboratory, Inc. (DTL), has voluntarily decided not to renew its recognition as a Nationally Recognized Testing Laboratory (NRTL). OSHA's current scope of recognition for DTL may be found in the following informational Web page: http://www.osha-slc.gov/dts/otpca/nrtl/dtl.html.

The only Federal Register notices published by OSHA for DTL's recognition covered its recognition as an NRTL, which became effective on April 27, 1998 (63 FR 20661).

The current address of the DTL facility (site) already recognized by OSHA is: Detroit Testing Laboratory, Inc., 7111 E. Eleven Mile, Warren, Michigan 48092.

General Background on the Expiration of Recognition

Appendix A to 29 CFR 1910.7 stipulates that a recognized NRTL may renew its recognition by filing a renewal request not less than nine months, nor more than one year, before the expiration date of its current recognition.

On June 18, 2002, OSHA sent DTL a reminder indicating that OSHA's recognition of Detroit Testing Lab, Inc. (DTL), as a Nationally Recognized Testing Laboratory (NRTL) would expire on April 28, 2003. DTL did not submit a renewal request within the stipulated time frame of less than nine months before the expiration date of its current recognition. On July 29, 2002, DTL indicated it will not be renewing its recognition as an NRTL. DTL's recognition will expire on April 28, 2003.

In accordance with OSHA policy pertaining to expiration of recognition, the Agency only publishes one Federal Register notice without a comment period to note the expiration of DTL's recognition as an NRTL.

Signed in Washington, DC this 11th day of April, 2003.
John L. Henshaw,
Assistant Secretary.

[FR Doc. 03-9874 Filed 4-21-03; 8:45 am]

BILLING CODE 4510-26-P